COMMITTEE FOR THE IMPLEMENTATION OF TEXTILE AGREEMENTS

Adjustment of Import Limits for Certain Cotton, Wool, Man-Made Fiber, Silk Blend and Other Vegetable Fiber Textiles and Textile Products Produced or Manufactured in Indonesia

July 10, 2001.

AGENCY: Committee for the Implementation of Textile Agreements (CITA).

ACTION: Issuing a directive to the Commissioner of Customs adjusting limits.

EFFECTIVE DATE: July 17, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, special shift, carryover, carryforward and the recrediting of unused carryforward.

A description of the textile and apparel categories in terms of HTS numbers is available in the CORRELATION: Textile and Apparel Categories with the Harmonized Tariff Schedule of the United States (see Federal Register notice 65 FR 82328, published on December 28, 2000). Also see 65 FR 69911, published on November 21, 2000.

D. Michael Hutchinson,
Acting Chairman, Committee for the Implementation of Textile Agreements.

Committee for the Implementation of Textile Agreements

July 10, 2001.

Commissioner of Customs,

Department of the Treasury, Washington, DC 20229.

Dear Commissioner: This directive amends, but does not cancel, the directive issued to you on November 15, 2000, by the Chairman, Committee for the Implementation of Textile Agreements. That directive concerns imports of certain cotton, wool, man-made fiber, silk blend and other vegetable fiber textiles and textile products, produced or manufactured in Indonesia and exported during the twelve-month period which began on January 1, 2001 and extends through December 31, 2001.

Effective on July 17, 2001, you are directed to adjust the limits for the categories listed below, as provided for under the Uruguay Round Agreement on Textiles and Clothing:

Category | Twelve-month restraint limit ¹
Levels in Group I |
200 | 1,197,707 kilograms.
219 | 12,304,608 square meters.
225 | 8,821,592 square meters.
300/301 | 5,333,710 kilograms.
313-O ² | 24,141,068 square meters.
314- O ³ | 79,294,573 square meters.
315- O ⁴ | 34,156,471 square meters.
317-O ⁵/326-O ⁶/617 | 32,994,099 square meters of which not more than 5,220,052 square meters shall be in Category 326- O.
331/631 | 3,274,776 dozen pairs.
334/335 | 325,331 dozen.
336/636 | 881,156 dozen.
338/339 | 1,855,016 dozen.
340/640 | 1,989,217 dozen.
341 | 1,177,918 dozen.
342/642 | 522,256 dozen.
345 | 550,420 dozen.
347/348 | 2,389,848 dozen.
350/650 | 179,386 dozen.
351/651 | 706,090 dozen.
359-C/659-C ⁷ | 1,966,853 kilograms.
359-S/659-S ⁸ | 2,070,371 kilograms.
360 | 1,660,021 numbers.
361 | 1,699,894 numbers.
369-S ⁹ | 1,270,885 kilograms.
433 | 12,503 dozen.
443 | 98,829 numbers.
445/446 | 64,230 dozen.
447 | 19,770 dozen.
448 | 21,683 dozen.
604-A ¹⁰ | 913,653 kilograms.
611-O ¹¹ | 4,198,707 square meters.
613/614/615 | 31,092,809 square meters.
618-O ¹² | 7,281,490 square meters.
619/620 | 11,735,418 square meters.
625/626/627/628/629-O ¹³ | 34,166,509 square meters.
634/635 | 397,214 dozen.
638/639 | 1,863,671 dozen.
641 | 3,185,141 dozen.
643 | 408,449 numbers.
644 | 589,607 numbers.
645/646 | 1,088,057 dozen.
647/648 | 4,368,985 dozen.
847 | 580,605 dozen.
Subgroup in Group II |
400, 410, 414, 431, 434, 435, 436, 438, 440, 442, 444, 459pt., 464 and 469pt., as a group | 2,962,580 square meters equivalent.
In Group II subgroup |
435 | 49,344 dozen.
¹ The limits have not been adjusted to account for any imports exported after December 31, 2000.
² Category 313-O: all HTS numbers except 5208.52.3035, 5208.52.4035 and 5209.51.6032.
³ Category 314-O: all HTS numbers except 5209.51.6015.
⁴ Category 315-O: all HTS numbers except 5208.52.4055.
⁵ Category 317-O: all HTS numbers except 5208.59.2085.
⁶ Category 326-O: all HTS numbers except 5208.59.2015, 5209.59.0015 and 5211.59.0015.
⁷ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁹ Category 369-S: only HTS number 6307.10.2005.
¹⁰ Category 604-A: only HTS number 5509.32.0000.
¹¹ Category 611-O: all HTS numbers except 5516.14.0005, 5516.14.0025 and 5516.14.0085.
¹² Category 618-O: all HTS numbers except 5408.24.9010 and 5408.24.9040.
¹³ Category 625/626/627/628; Category 629-O: all HTS numbers except 5408.34.9085 and 5516.24.0085.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-17690 Filed 7-13-01; 8:45 am]

BILLING CODE 3510-DR-S